DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on December 18, 2025. See Supplementary Information for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On December 18, 2025, OFAC determined that the property and interests in property subject to U.S. jurisdiction of the following persons are blocked under the relevant sanctions authorities listed below.

Entities

1. KURDOS SHIPPING INC., Suites D&E, 20th Floor, Global Plaza Tower, Calle 50, Panama City, Panama; Organization Established Date 17 Jul 2008; Identification Number IMO 5409641; Registration Number 625159 (Panama) [IRAN-EO13902].

Designated pursuant to section 1(a)(i) of Executive Order 13902 of January 10, 2020, “Imposing Sanctions With Respect to Additional Sectors of Iran,” 85 FR 2003, 3 CFR, 2020 Comp., p. 299 (E.O. 13902), for operating in the petroleum sector of the Iranian economy.

2. DARYA SHIPPING PRIVATE LIMITED (a.k.a. DARYA SHIPPING PVT LTD), No. 421, 422, and 423, Fourth Floor, Vipul Plaza, Golf Course Road, Gurgaon 122011, India; Website www.daryashipping.in; Organization Established Date 16 Nov 2017; Identification Number IMO 6017001; Trade License No. U74999HR2017PTC071501 (India); Company Number 98450007AWFB9BFC6A06 (India) [IRAN-EO13902].

Designated pursuant to section 1(a)(i) of E.O. 13902 for operating in the petroleum sector of the Iranian economy.

3. HEMERA LINES INC., Trust Company Complex, Ajeltake Road, Majuro, Ajeltake Island 96960, Marshall Islands; Organization Established Date 07 Sep 2022; Identification Number IMO 6358714; Company Number 116070 (Marshall Islands) [IRAN-EO13902].

Designated pursuant to section 1(a)(i) of E.O. 13902 for operating in the petroleum sector of the Iranian economy.

4. SINOSTAR MARINE GROUP LIMITED, Trust Company Complex, Ajeltake Road, Majuro, Ajeltake Island 96960, Marshall Islands; Organization Established Date 19 Mar 2024; Identification Number IMO 0059859; Company Number 124911 (Marshall Islands) [IRAN-EO13902].

Designated pursuant to section 1(a)(i) of E.O. 13902 for operating in the petroleum sector of the Iranian economy.

Designated pursuant to section 1(a)(iv) of E.O. 13902 for being owned or controlled by, or having acted or purported to act for or on behalf of, directly or indirectly, HATEM ELSAID FARID IBRAHIM SAKR.

6. QATRAT ALNADA ALMASI SHIP MANAGEMENT L.L.C, Office 604, Green Tower, Rigga Albuteen, Deira, Dubai, United Arab Emirates; Organization Established Date 15 Feb 2024; Identification Number IMO 6479652; Commercial Registry Number 2226924 (United Arab Emirates); License 1312327 (United Arab Emirates); Chamber of Commerce Number 519528 (United Arab Emirates) [IRAN-EO13902].

Designated pursuant to section 1(a)(i) of E.O. 13902 for operating in the petroleum sector of the Iranian economy.

Designated pursuant to section 1(a)(iv) of E.O. 13902 for being owned or controlled by, or having acted or purported to act for or on behalf of, directly or indirectly, HATEM ELSAID FARID IBRAHIM SAKR.

8. GOLDEN GATE SHIP MANAGEMENT, Office No A-301, Mahavir Icon, CBD Belapur, Plot 89, Sector 15, Thane, Navi Mumbai, Maharashtra 400614, India; Organization Established Date 01 Oct 2024; Identification Number IMO 0029112; Company Number UDYAM-MH-33-0532049 (India) [IRAN-EO13902].

Designated pursuant to section 1(a)(i) of E.O. 13902 for operating in the petroleum sector of the Iranian economy.

9. M K A SHIPPING INC, Trust Company Complex, Ajeltake Road, Majuro, Ajeltake Island 96960, Marshall Islands; Organization Established Date 24 May 2022; Identification Number IMO 6323643; Registration Number 114584 (Marshall Islands) [IRAN-EO13902].

Designated pursuant to section 1(a)(i) of E.O. 13902 for operating in the petroleum sector of the Iranian economy.

10. ALEAH SHIPPING INC, Intershore Chambers, Road Town, Tortola, Virgin Islands, British; Organization Established Date 2024; Identification Number IMO 0115648 [IRAN-EO13902].

Designated pursuant to section 1(a)(i) of E.O. 13902 for operating in the petroleum sector of the Iranian economy.

11. J M A SHIPPING INC., Panama City, Panama; Organization Established Date 27 Apr 2021; Identification Number IMO 6225751; Folio Mercantil No. 155705332 (Panama) [IRAN-EO13902].

Designated pursuant to section 1(a)(i) of E.O. 13902 for operating in the petroleum sector of the Iranian economy.

12. RUKBAT MARINE SERVICES CO, Unit 1905, Haware Infotech, Sector 30A, Vashi, Navi Mumbai, Maharashtra 410210, India; Organization Established Date 2025; Identification Number IMO 0156125 [IRAN-EO13902].

Designated pursuant to section 1(a)(i) of E.O. 13902 for operating in the petroleum sector of the Iranian economy.

13. S M A SHIPPING INC., Office 703, 6th Floor, Centennial Center, Panama City, Panama; Organization Established Date 29 Jan 2021; Identification Number IMO 6206261; Folio Mercantil No. 155701731 (Panama) [IRAN-EO13902].

Designated pursuant to section 1(a)(i) of E.O. 13902 for operating in the petroleum sector of the Iranian economy.

14. AGAPE SHIPPING INC, Trust Company Complex, Ajeltake Road, Majuro, Ajeltake Island 96960, Marshall Islands; Organization Established Date 13 Mar 2024; Identification Number IMO 6483853; Registration Number 124804 (Marshall Islands) [IRAN-EO13902].

Designated pursuant to section 1(a)(i) of E.O. 13902 for operating in the petroleum sector of the Iranian economy.

15. MARUTI SHIPPING INC., Trust Company Complex, Ajeltake Road, Majuro, Ajeltake Island 96960, Marshall Islands; Organization Established Date 31 May 2024; Identification Number IMO 6506573; Registration Number 126286 (Marshall Islands) [IRAN-EO13902].

Designated pursuant to section 1(a)(i) of E.O. 13902 for operating in the petroleum sector of the Iranian economy.

16. ADONIS SHIPPING INC, Trust Company Complex, Ajeltake Road, Majuro, Ajeltake Island 96960, Marshall Islands; Organization Established Date 05 Apr 2024; Identification Number IMO 6490991; Registration Number 125282 (Marshall Islands) [IRAN-EO13902].

Designated pursuant to section 1(a)(i) of E.O. 13902 for operating in the petroleum sector of the Iranian economy.

17. CONCORD SHIPPING INC., Trust Company Complex, Ajeltake Road, Majuro, Ajeltake Island 96960, Marshall Islands; Organization Established Date 17 Sep 2021; Identification Number IMO 6255216; Registration Number 110904 (Marshall Islands) [IRAN-EO13902].

Designated pursuant to section 1(a)(i) of E.O. 13902 for operating in the petroleum sector of the Iranian economy.

18. EVEREST SEA NAVIGATION SA, 80 Broad Street, Monrovia, Liberia; Organization Established Date 2023; Identification Number IMO 6452167 [IRAN-EO13902].

Designated pursuant to section 1(a)(i) of E.O. 13902 for operating in the petroleum sector of the Iranian economy.

19. ARIHANT SHIPPING INC., Panama City, Panama; Organization Established Date 29 Nov 2019; Identification Number IMO 6137793; Folio Mercantil No. 155688452 (Panama) [IRAN-EO13902].

Designated pursuant to section 1(a)(i) of E.O. 13902 for operating in the petroleum sector of the Iranian economy.

Designated pursuant to section 1(a)(i) of E.O. 13902 for operating in the petroleum sector of the Iranian economy.

Individual

Designated pursuant to section 1(a)(i) of E.O. 13902 for operating in the petroleum sector of the Iranian economy.

On December 18, 2025, OFAC also identified the following vessels as property in which a blocked person has an interest under the relevant sanctions authority listed below.

Vessels

1. KURDOS (T8A5448) Chemical/Products Tanker Palau flag; Vessel Year of Build 2001; Vessel Registration Identification IMO 9236731; MMSI 511101920 (vessel) [IRAN-EO13902] (Linked To: KURDOS SHIPPING INC.).

Identified as property in which KURDOS SHIPPING INC., a person whose property and interests in property are blocked pursuant to E.O. 13902, has an interest.

2. KURDOS II (T8A4469) Chemical/Products Tanker Palau flag; Vessel Year of Build 2008; Vessel Registration Identification IMO 9453729; MMSI 511101194 (vessel) [IRAN-EO13902] (Linked To: KURDOS SHIPPING INC.).

Identified as property in which KURDOS SHIPPING INC., a person whose property and interests in property are blocked pursuant to E.O. 13902, has an interest.

3. KURDOS III (T8A5317) Chemical/Products Tanker Palau flag; Vessel Year of Build 2008; Vessel Registration Identification IMO 9380570; MMSI 511101819 (vessel) [IRAN-EO13902] (Linked To: KURDOS SHIPPING INC.).

Identified as property in which KURDOS SHIPPING INC., a person whose property and interests in property are blocked pursuant to E.O. 13902, has an interest.

4. FOSHAN (3E2124) Chemical/Products Tanker Panama flag; Vessel Year of Build 2007; Vessel Registration Identification IMO 9404572; MMSI 352001366 (vessel) [IRAN-EO13902] (Linked To: SINOSTAR MARINE GROUP LIMITED).

Identified as property in which SINOSTAR MARINE GROUP LIMITED, a person whose property and interests in property are blocked pursuant to E.O. 13902, has an interest.

5. HEMERA (T8A4764) Asphalt/Bitumen Tanker Palau flag; Vessel Year of Build 2006; Vessel Registration Identification IMO 9263954; MMSI 511101408 (vessel) [IRAN-EO13902] (Linked To: HEMERA LINES INC.).

Identified as property in which HEMERA LINES INC., a person whose property and interests in property are blocked pursuant to E.O. 13902, has an interest.

6. RAMYA (8PZQ3) Chemical/Products Tanker Barbados flag; Vessel Year of Build 2006; Vessel Registration Identification IMO 9363182; MMSI 314001076 (vessel) [IRAN-EO13902] (Linked To: DARYA SHIPPING PRIVATE LIMITED).

Identified as property in which DARYA SHIPPING PRIVATE LIMITED, a person whose property and interests in property are blocked pursuant to E.O. 13902, has an interest.

7. SEA CITRINE VI (T8A4765) Products Tanker Palau flag; Vessel Year of Build 1999; Vessel Registration Identification IMO 9207273; MMSI 511101409 (vessel) [IRAN-EO13902] (Linked To: QATRAT ALNADA ALMASI SHIP MANAGEMENT L.L.C).

Identified as property in which QATRAT ALNADA ALMASI SHIP MANAGEMENT L.L.C, a person whose property and interests in property are blocked pursuant to E.O. 13902, has an interest.

8. SEA ROCK Products Tanker; Former Vessel Flag Palau; Vessel Year of Build 1996; Vessel Registration Identification IMO 9140451 (vessel) [IRAN-EO13902] (Linked To: QATRAT ALNADA ALMASI SHIP MANAGEMENT L.L.C).

Identified as property in which QATRAT ALNADA ALMASI SHIP MANAGEMENT L.L.C, a person whose property and interests in property are blocked pursuant to E.O. 13902, has an interest.

9. SEA WISE (T8A3980) Products Tanker Palau flag; Vessel Year of Build 2001; Vessel Registration Identification IMO 9224570; MMSI 511100774 (vessel) [IRAN-EO13902] (Linked To: QATRAT ALNADA ALMASI SHIP MANAGEMENT L.L.C).

Identified as property in which QATRAT ALNADA ALMASI SHIP MANAGEMENT L.L.C, a person whose property and interests in property are blocked pursuant to E.O. 13902, has an interest.

10. SEAMULL (T8A3433) Products Tanker Palau flag; Vessel Year of Build 2001; Vessel Registration Identification IMO 9204776; MMSI 511100317 (vessel) [IRAN-EO13902] (Linked To: QATRAT ALNADA ALMASI SHIP MANAGEMENT L.L.C).

Identified as property in which QATRAT ALNADA ALMASI SHIP MANAGEMENT L.L.C, a person whose property and interests in property are blocked pursuant to E.O. 13902, has an interest.

11. INTAN PREMIER (T8A5105) Chemical/Products Tanker Palau flag; Vessel Year of Build 2009; Vessel Registration Identification IMO 9358802; MMSI 511101645 (vessel) [IRAN-EO13902] (Linked To: RED SEA SHIP MANAGEMENT LLC).

Identified as property in which RED SEA SHIP MANAGEMENT LLC, a person whose property and interests in property are blocked pursuant to E.O. 13902, has an interest.

12. KHADIGA (T8A4125) Chemical/Products Tanker Palau flag; Vessel Year of Build 2006; Vessel Registration Identification IMO 9321469; MMSI 511100904 (vessel) [IRAN-EO13902] (Linked To: RED SEA SHIP MANAGEMENT LLC).

Identified as property in which RED SEA SHIP MANAGEMENT LLC, a person whose property and interests in property are blocked pursuant to E.O. 13902, has an interest.

13. SKYLIGHT (T8A4356) Chemical/Products Tanker Palau flag; Vessel Year of Build 2006; Vessel Registration Identification IMO 9330020; MMSI 511101102 (vessel) [IRAN-EO13902] (Linked To: RED SEA SHIP MANAGEMENT LLC).

Identified as property in which RED SEA SHIP MANAGEMENT LLC, a person whose property and interests in property are blocked pursuant to E.O. 13902, has an interest.

14. AUROURA (3E3982) Oil Products Tanker Panama flag; Vessel Year of Build 2004; Vessel Registration Identification IMO 9262912; MMSI 352001225 (vessel) [IRAN-EO13902] (Linked To: GOLDEN GATE SHIP MANAGEMENT).

Identified as property in which GOLDEN GATE SHIP MANAGEMENT, a person whose property and interests in property are blocked pursuant to E.O. 13902, has an interest.

15. M K A (E5U4496) Chemical/Products Tanker Cook Islands flag; Vessel Year of Build 2003; Vessel Registration Identification IMO 9269403; MMSI 518998516 (vessel) [IRAN-EO13902] (Linked To: M K A SHIPPING INC).

Identified as property in which M K A SHIPPING INC, a person whose property and interests in property are blocked pursuant to E.O. 13902, has an interest.

16. DIANA (6YWV8) Crude Oil Tanker Jamaica flag; Vessel Year of Build 2004; Vessel Registration Identification IMO 9255945; MMSI 339000161 (vessel) [IRAN-EO13902] (Linked To: ALEAH SHIPPING INC).

Identified as property in which ALEAH SHIPPING INC, a person whose property and interests in property are blocked pursuant to E.O. 13902, has an interest.

17. FLORA DOLCE (8PZQ8) Chemical/Products Tanker Barbados flag; Vessel Year of Build 2004; Vessel Registration Identification IMO 9258595; MMSI 314001081 (vessel) [IRAN-EO13902] (Linked To: RUKBAT MARINE SERVICES CO).

Identified as property in which RUKBAT MARINE SERVICES CO, a person whose property and interests in property are blocked pursuant to E.O. 13902, has an interest.

18. J M A (E5U4180) Oil Products Tanker Cook Islands flag; Vessel Year of Build 2001; Vessel Registration Identification IMO 9246487; MMSI 518998202 (vessel) [IRAN-EO13902] (Linked To: J M A SHIPPING INC.).

Identified as property in which J M A SHIPPING INC., a person whose property and interests in property are blocked pursuant to E.O. 13902, has an interest.

19. S M A (E5U3873) Asphalt/Bitumen Tanker Cook Islands flag; Vessel Year of Build 2003; Vessel Registration Identification IMO 9273002; MMSI 518100962 (vessel) [IRAN-EO13902] (Linked To: S M A SHIPPING INC.).

Identified as property in which S M A SHIPPING INC., a person whose property and interests in property are blocked pursuant to E.O. 13902, has an interest.

20. MARUTI (E5U4438) Products Tanker Cook Islands flag; Vessel Year of Build 2010; Vessel Registration Identification IMO 9546710; MMSI 518998458 (vessel) [IRAN-EO13902] (Linked To: MARUTI SHIPPING INC.).

Identified as property in which MARUTI SHIPPING INC., a person whose property and interests in property are blocked pursuant to E.O. 13902, has an interest.

21. NOMIKI (3E7581) Chemical/Products Tanker Panama flag; Vessel Year of Build 2002; Vessel Registration Identification IMO 9242443; MMSI 352004062 (vessel) [IRAN-EO13902] (Linked To: AGAPE SHIPPING INC).

Identified as property in which AGAPE SHIPPING INC, a person whose property and interests in property are blocked pursuant to E.O. 13902, has an interest.

22. GOLDEN EAGLE Crude Oil Tanker Unknown flag; Former Vessel Flag Gambia; Vessel Year of Build 2004; Vessel Registration Identification IMO 9255684; MMSI 341313001 (vessel) [IRAN-EO13902] (Linked To: EVEREST SEA NAVIGATION SA).

Identified as property in which EVEREST SEA NAVIGATION SA, a person whose property and interests in property are blocked pursuant to E.O. 13902, has an interest.

23. KASSIA (3E2726) Chemical/Products Tanker Panama flag; Vessel Year of Build 2008; Vessel Registration Identification IMO 9409986; MMSI 352001708 (vessel) [IRAN-EO13902] (Linked To: ADONIS SHIPPING INC).

Identified as property in which ADONIS SHIPPING INC, a person whose property and interests in property are blocked pursuant to E.O. 13902, has an interest.

24. MAJESTY (E5U4288) Chemical/Products Tanker Cook Islands flag; Vessel Year of Build 2012; Vessel Registration Identification IMO 9430715 (vessel) [IRAN-EO13902] (Linked To: CONCORD SHIPPING INC.).

Identified as property in which CONCORD SHIPPING INC., a person whose property and interests in property are blocked pursuant to E.O. 13902, has an interest.

25. AETHER SAIL (T8A4543) Chemical/Products Tanker Palau flag; Vessel Year of Build 2003; Vessel Registration Identification IMO 9277371; MMSI 511101256 (vessel) [IRAN-EO13902] (Linked To: PHOENIX SHIP MANAGEMENT FZE).

Identified as property in which PHOENIX SHIP MANAGEMENT FZE, a person whose property and interests in property are blocked pursuant to E.O. 13902, has an interest.

26. ARIHANT (T8A3376) Products Tanker Palau flag; Vessel Year of Build 2009; Vessel Registration Identification IMO 9464156; MMSI 511100268 (vessel) [IRAN-EO13902] (Linked To: ARIHANT SHIPPING INC.).

Identified as property in which ARIHANT SHIPPING INC., a person whose property and interests in property are blocked pursuant to E.O. 13902, has an interest.

27. NEBULA DRIFT (T8A5231) Products Tanker Palau flag; Vessel Year of Build 2002; Vessel Registration Identification IMO 9233973; MMSI 511101749 (vessel) [IRAN-EO13902] (Linked To: PHOENIX SHIP MANAGEMENT FZE).

Identified as property in which PHOENIX SHIP MANAGEMENT FZE, a person whose property and interests in property are blocked pursuant to E.O. 13902, has an interest.

28. TIDAL RHYTHM (3E6978) Asphalt/Bitumen Tanker Panama flag; Vessel Year of Build 2004; Vessel Registration Identification IMO 9297101; MMSI 352004719 (vessel) [IRAN-EO13902] (Linked To: PHOENIX SHIP MANAGEMENT FZE).

Identified as property in which PHOENIX SHIP MANAGEMENT FZE, a person whose property and interests in property are blocked pursuant to E.O. 13902, has an interest.

29. VOYAGER HAVEN (3E6786) Chemical/Products Tanker Panama flag; Vessel Year of Build 2004; Vessel Registration Identification IMO 9271896; MMSI 352004496 (vessel) [IRAN-EO13902] (Linked To: PHOENIX SHIP MANAGEMENT FZE).

Identified as property in which PHOENIX SHIP MANAGEMENT FZE, a person whose property and interests in property are blocked pursuant to E.O. 13902, has an interest.

(Authority: E.O. 13902.)

Bradley T. Smith,
Director, Office of Foreign Assets Control.

[FR Doc. 2025-23583 Filed 12-19-25; 8:45 am]

BILLING CODE 4810-AL-P